INTERNATIONAL TRADE COMMISSION

[ Inv. No. 337-TA-519]

In the Matter of Certain Personal Computers, Monitors, and Components Thereof; Notice of Commission Decision to Review-In-Part an Initial Determination Finding No Violation of Section 337 of the Tariff Act of 1930 and to Remand Portions of the Investigation to the Administrative Law Judge

AGENCY: U.S. International Trade Commission.

ACTION: Notice.

SUMMARY: Notice is hereby given that the U.S. International Trade Commission has determined to review-in-part the presiding administrative law judge's (“ALJ's”) initial determination (“ID”) issued on October 6, 2005, in the above-captioned investigation and to remand portions of the investigation to the ALJ to make additional factual findings and determinations.

FOR FURTHER INFORMATION CONTACT: Michael Liberman, Esq., Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This patent-based section 337 investigation was instituted by the Commission on August 6, 2004, based on a complaint filed by Gateway, Inc. of Poway, California (“Gateway”). 69 FR 47956 (August 6, 2004). The complainant alleged violations of section 337 in the importation and sale of certain personal computers, monitors, and components thereof, by reason of infringement of three U.S. patents. The complainant named Hewlett-Packard Company of Palo Alto, California as a respondent. Claims 9-11 and 15-19 of U.S. Patent No. 5,192,999 (“the ‘999 patent”) remain at issue in this investigation.

The evidentiary hearing was held from May 23 through May 26, 2005. On October 6, 2005, the ALJ issued a final ID finding no violation of section 337. All the parties to the investigation, including the Commission investigative attorney, filed timely petitions for review of various portions of the final ID. Respondent's petition is contingent upon a Commission determination to review the ALJ's findings on the issue of inequitable conduct. HP's Petition at

1. The parties all filed timely responses to all the petitions

Having reviewed the record in this investigation, including the parties' written submissions, the Commission has determined to: (1) Review the ALJ's determination on induced infringement of Claim 19 and remand for further factual findings and analysis; (2) review the ALJ's determination on obviousness solely for the purpose of clarifying the ID's discussion of Sakraida v. AG Pro, Inc., 425 U.S. 273 (1976); (3) review the ALJ's determination on enablement; and (4) review the issue of inequitable conduct and remand for further factual findings and analysis. The Commission has further determined not to review the remainder of the ID.

Written Submissions: The Commission does not request any written submissions at this time.

This action is taken under the authority of section 337 of the Tariff Act of 1930, as amended (19 U.S.C. 1337), and in sections 210.42-.45 of the Commission's Rules of Practice and Procedure (19 CFR 210.42-.45).

Issued: December 1, 2005.
By order of the Commission.
Marilyn R. Abbott,
Secretary to the Commission.

[FR Doc. E5-7026 Filed 12-7-05; 8:45 am]

BILLING CODE 7020-02-P